OFFICE OF PERSONNEL MANAGEMENT

5 CFR Part 300

RIN 3206-AL18

Time-in-Grade Eliminated, Delay of Effective Date

AGENCY: Office of Personnel Management.

ACTION: Final rule; delay of the effective date.

SUMMARY: The Office of Personnel Management (OPM) is extending the effective date of the final rule, titled Time-in-Grade Elimination, published in the Federal Register on November 7, 2008, for an additional 90 days, from May 18, 2009 to August 16, 2009. OPM is extending the effective date to address comments received from the March 9, 2009, Federal Register rule, and the May 11, 2009, Federal Register proposed rule.

DATES: The effective date for the final rule published in the Federal Register on November 7, 2008 (73 FR 66157), that was delayed until May 18, 2009 (March, 9, 2009, 74 FR 9951), is delayed until August 16, 2009.

FOR FURTHER INFORMATION CONTACT: Ms. Janice Warren by telephone (202) 606-0960; by FAX (202) 606-2329; by TTY (202) 418-3134; or by e-mail janice.warren@opm.gov.

SUPPLEMENTARY INFORMATION: On May 11, 2009, the U.S. Office of Personnel Management (OPM) published in the Federal Register (74 FR 21771) a proposed rule proposing to extend the final rule's effective date to August 16, 2009. The purpose of the proposed extension is to delay the effective date so that OPM may thoroughly review and consider the comments received from the March 9, 2009, Federal Register rule (74 FR 9951) to consider issues of law and policy raised by the November 7, 2008, final rule. The public comment period for the proposal to extend and/or revoking the final regulation ended on May 12, 2009. A discussion of the comments follows.

OPM received comments from four agencies, one employee organization, and six individuals on the proposal to extend the effective date. All four agencies and the employee organization supported OPM's proposal to extend the effective date of the final regulation. Six individuals opposed the proposed delay of the effective date. Two individuals believe the delay would cause additional confusion for agency personnel staff. Four individuals commented the delay in effective date would unfairly penalize high-performing employees who otherwise might be eligible for promotions despite not meeting the time-in-grade requirement.

OPM has carefully considered these comments and has decided to delay the effective date of the final regulation until August 16, 2009. We note the current administration has not had adequate time to assess the impact of TIG removal. Further, we believe a delay in the effective date will provide us the opportunity to consider additional comments from the May 11, 2009 proposed rule to consider issues of law and policy raised by OPM's November 7, 2008 final rule. We also do not wish agencies to undertake the significant effort and expense that will likely result to achieve the changes that would be required if the rule were to go into effect on May 18, 2009, which might be unnecessary if OPM decides to modify the rule.

U.S. Office of Personnel Management.
John Berry,
Director.

[FR Doc. E9-11589 Filed 5-14-09; 11:15 am]

BILLING CODE 6325-39-P